DEPARTMENT OF JUSTICE

Antitrust Division

Notice Pursuant to the National Cooperative Research and Production Act of 1993—Spectrum Forward Consortium

Notice is hereby given that, on May 4, 2020, pursuant to Section 6(a) of the National Cooperative Research and Production Act of 1993, 15 U.S.C. 4301 et seq. (“the Act”), the Spectrum Forward Consortium (“SFC”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Consortium Management Group, Inc. (“CMG”), on behalf of the Spectrum Forward Consortium, Washington, DC; Fathom 4, LLC, Charleston, SC; Logistic Services International, Inc., Jacksonville, FL; Netorian, LLC, Aberdeen, MD; StartGuides, LLC, Alexandria, VA; and Tiburon Associates, Inc., Grand Rapids, MI.

The general area of SFC's planned activity is to execute and implement an Other Transaction Agreement (“OTA”) with the U.S. Government (“Government”) (a) for the funding of certain research, development, testing and evaluation of protypes leading to follow-on project production to be conducted as a collaboration between the Government and the SFC Members, to enhance the capabilities of the Government and its departments and agencies in the development of protypes and full production thereof in the critical electromagnetic spectrum technology fields (“SFC Mission”); (b) to participate in the establishment of sound technical and programmatic performance goals based on the technical needs and requirements of the Government's electronic spectrum Technology Objectives; (c) to provide a unified voice to effectively articulate the global and strategically important role the SFC Mission plays in furthering national security objectives; and (d) to maximize the utilization of the Government's and SFC Members' capabilities to effectively develop critical technologies which can be transitioned and commercialized.

Suzanne Morris,
Chief, Premerger and Division Statistics Unit, Antitrust Division.

[FR Doc. 2020-10723 Filed 5-18-20; 8:45 am]

BILLING CODE 4410-11-P